DEPARTMENT OF COMMERCE

International Trade Administration

[A-552-801]

Certain Frozen Fish Fillets From the Socialist Republic of Vietnam: Notice of Partial Rescission of the Seventh Antidumping Duty Administrative Review

AGENCY: Import Administration, International Trade Administration, Department of Commerce.

SUMMARY: The Department of Commerce (“Department”) is conducting an administrative review of the antidumping duty order on certain frozen fish fillets from the Socialist Republic of Vietnam (“Vietnam”). See Notice of Antidumping Duty Order: Certain Frozen Fish Fillets From the Socialist Republic of Vietnam, 68 FR 47909 (August 12, 2003). On September 22, 2010, the Department initiated the August 1, 2009, through July 31, 2010, antidumping duty administrative review on certain frozen fish fillets from Vietnam. See Initiation of Antidumping and Countervailing Duty Administrative Reviews and Requests for Revocation, 75 FR 60076, (September 29, 2010). Based upon requests for review from various parties, the Department initiated this review with respect to 26 companies.¹ On December 27, 2010, Agifish withdrew its request for an administrative review. On December 28, 2010, SAMEFICO withdrew its request for an administrative review. On December 28, 2010, Petitioners ² partially withdrew their August 31, 2010, request for an administrative review for four companies. These companies include: (1) Agifish; (2) Nam Viet; (3) Nam Viet Corporation; and (4) SAMEFICO. On March 11, 2011, Cadovimex II withdrew its request for an administrative review. On March 14, 2011, Petitioners withdrew their review request for Cadovimex II. The preliminary results of this administrative review are currently due no later than August 31, 2011.³

¹ (1) An Giang Fisheries Import and Export Joint Stock Company (aka Agifish or AnGiang Fisheries Import and Export) (“Agifish”); (2) Anvifish Co., Ltd.; (3) Anvifish Joint Stock Company (aka Anvifish JSC); (4) Asia Commerce Fisheries Joint Stock Company (aka Acomfish JSC) (“Acomfish”); (5) Bien Dong Seafood Co., Ltd. (“Bien Dong Seafood”); (6) Binh An Seafood Joint Stock Co. (“Binh An”); (7) Cadovimex II Seafood Import-Export and Processing Joint Stock Company (aka Cadovimex II) (“Cadovimex II”); (8) Cantho Import-Export Seafood Joint Stock Company (“CASEAMEX”); (9) CUU Long Fish Joint Stock Company (aka CL-Fish) (“CL Fish”); (10) East Sea Seafoods Limited Liability Company (formerly known as East Sea Seafoods Joint Venture Co., Ltd.); (11) East Sea Seafoods Joint Venture Co., Ltd.; (12) East Sea Seafoods LLC; (13) Hiep Thanh Seafood Joint Stock Co. (“Hiep Thanh”); (14) International Development & Investment Corporation (also known as IDI) (“IDI”); (15) Nam Viet Company Limited (aka NAVICO) (“Nam Viet”); (16) Nam Viet Corporation; (17) NTSF Seafoods Joint Stock Company (aka NTSF); (18) QVD Food Company, Ltd.(“QVD”); (19) QVD Dong Thap Food Co., Ltd. (“QVD DT”); (20) Saigon-Mekong Fishery Co., Ltd. (aka SAMEFICO) (“SAMEFICO”); (21) Southern Fishery Industries Company, Ltd. (aka South Vina) (“South Vina”); (22) Thien Ma Seafood Co., Ltd. (“THIMACO”); (23) Thuan Hung Co., Ltd. (aka THUFICO) (“Thuan Hung”); (24) Vinh Hoan Corporation (“Vinh Hoan”); (25) Vinh Hoan Company, Ltd.; and (26) Vinh Quang Fisheries Corporation (“Vinh Quang”).

² Catfish Farmers of America and individual U.S. catfish processors, America's Catch, Consolidated Catfish Companies, LLC dba Country Select Catfish, Delta Pride Catfish, Inc., Harvest Select Catfish, Inc., Heartland Catfish Company, Pride of the Pond, and Simmons Farm Raised Catfish, Inc.

³ See Certain Frozen Fish Fillets from the Socialist Republic of Vietnam: Extension of Time Limit for Preliminary Results of the Seventh Antidumping Duty Administrative Review, 76 FR 206263 (April 13, 2011).

DATES: Effective Date: August 4, 2011.

FOR FURTHER INFORMATION CONTACT: Alexis Polovina and Javier Barrientos, Office 9, AD/CVD Operations, Import Administration, International Trade Administration, U.S. Department of Commerce, 14th Street and Constitution Avenue, NW., Washington, DC 20230; telephone: (202) 482-3927 and (202) 482-2243, respectively.

Partial Rescission of Review

The applicable regulation, 19 CFR 351.213(d)(1), states that if a party that requested an administrative review withdraws the request within 90 days of the publication of the notice of initiation of the requested review, the Secretary will rescind the review. Parties withdrew their review requests with respect to four exporters of subject merchandise within the 90-day deadline, in accordance with 19 CFR 351.213(d)(1).

Therefore, in accordance with section 351.213(d)(1) of the Department's regulations, we are partially rescinding this review with respect to the following companies: (1) Agifish; (2) Nam Viet; (3) Nam Viet Corporation; and 4) SAMEFICO. The Department is also rescinding this review with respect to Cadovimex II. Although Cadovimex II's and Petitioner's March 11, 2011, and March 14, 2011, withdrawal requests were submitted after the December 28, 2010, 90-day deadline, we will extend the deadline. In this instance, the Department has not expended significant resources analyzing Cadovimex II's data, and therefore, find it reasonable to extend the deadline. See 19 CFR 351.213(d)(1).

Assessment Rates

The Department will instruct U.S. Customs and Border Protection (“CBP”) to assess antidumping duties on all appropriate entries. For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for Agifish, SAMEFICO, and Cadovimex II.

The Department cannot order liquidation for companies which, although they are no longer under review as a separate entity, may still be under review as part of the Vietnam-wide entity. Therefore, the Department cannot, at this time, order liquidation of entries for the following companies: Nam Viet and Nam Viet Corporation. The Department intends to issue liquidation instructions for the Vietnam-wide entities 15 days after publication of the final results of this review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders (“APO”)

This notice also serves as a reminder to parties subject to APO of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 29, 2011.
Gary Taverman,
Acting Deputy Assistant Secretary for Antidumping and Countervailing Duty Operations.

[FR Doc. 2011-19815 Filed 8-3-11; 8:45 am]

BILLING CODE 3510-DS-P